DEPARTMENT OF COMMERCE

International Trade Administration

Office of Manufacturing; Roundtable on the 3Rs Initiative (Reduce Waste, Reuse, and Recycle); Notice of Meeting

The U.S. Department of Commerce Office of Manufacturing is hosting an outreach meeting to discuss the 3Rs Initiative (Reduce waste, Reuse and Recycle) that was introduced by the Government of Japan and supported by the U.S. at the 2004 G8 summit in Sea Island, Georgia. The following objectives for the Initiative were established by the G-8 nations.

(1) Reduce waste, reuse and recycle resources and products to the extent ­feasible

(2) Reduce barriers to the international flow of goods and materials for recycling and remanufacturing, recycled and remanufactured products, and cleaner, more efficient technologies, consistent with existing environmental and trade obligations and frameworks;

(3) Encourage cooperation among various stakeholders (central governments, local governments, the private sector, NGOs and communities), including voluntary and market-based activities;

(4) Promote science and technology suitable for 3Rs; and

(5) Cooperate with developing countries in such areas as capacity building, raising public awareness, human resource development and implementation of recycling projects.

It was further agreed at Sea Island that Japan would host a Ministerial level conference on the Initiative. This has been scheduled by the Government of Japan for April 28-30, 2005 in Tokyo. The White House Council on Environmental Quality (CEQ) is leading an interagency effort to determine what the United States shall attempt to accomplish through the 3Rs Initiative and the policy approaches for the Ministerial Conference. Joseph H. Bogosian, the Deputy Assistant Secretary for Manufacturing at the U.S. Department of Commerce, is hosting this meeting in order to solicit input from all interested stakeholders including representatives of manufacturers, retailers, recyclers, and environmental organizations.

The following points may be useful as an aide for discussion:

1. Definition of “re-used” goods. Varying industries define it differently:

(a) Remanufactured;

(b) Refurbished; and

(c) “Re-used” as distinguished from “used” goods.

2. Trade and Market Access Issues (impacting inbound products and exports).

3. Standards Issues.

4. Recycling Incentives.

5. Possible Models:

(a) Product approach;

(b) Process approach.

6. Best Practices from Earlier Trade Agreements, and Existing Legal and Regulatory Barriers.

7. Benefits to:

(a) The Environment;

(b) The Economy and Jobs.

The event is open to the public and the press. Please RSVP and submit any written comments to 3RsInitiative@mail.doc.gov. Please include your name, phone number, and organization affiliation.

DATES: Thursday, October 14, 2004.

TIME: 1 p.m.-4 p.m.

ADDRESSES: U.S. Department of Commerce Auditorium, 1401 Constitution Ave, NW., Washington, DC 20230. Enter through the Department of Commerce main entrance on 14th Street between Constitution and Pennsylvania Avenues. Bring a photo ID for security purposes. This meeting is physically accessible to people with disabilities.

FOR FURTHER INFORMATION CONTACT: Sarah E. Aker, Office of the Deputy Assistant Secretary for Manufacturing, Department of Commerce, Room 2132, 1401 Constitution Ave., Washington, DC 20230 (phone: (202) 482-1124).

Dated: October 4, 2004.
Sarah E. Aker,
Special Assistant.

[FR Doc. 04-22702 Filed 10-6-04; 8:45 am]

BILLING CODE 3510-DR-P